DEPARTMENT OF JUSTICE

Foreign Claims Settlement Commission

Sunshine Act Meeting

[F.C.S.C. Meeting and Hearing Notice No. 07-14]

The Foreign Claims Settlement Commission, pursuant to its regulations (45 CFR Part 503.25) and the Government in the Sunshine Act (5 U.S.C. 552b), hereby gives notice in regard to the scheduling of open meetings as follows:

Thursday, July 24, 2014: 10:00 a.m.—Oral hearings on Objection to Commission's Proposed Decisions in Claim Nos. IRQ-I-003/IRQ-I-009;

11:00 a.m.—Issuance of Proposed Decisions in claims against Iraq.

Status: Open.

All meetings are held at the Foreign Claims Settlement Commission, 600 E Street NW., Washington, DC. Requests for information, or advance notices of intention to observe an open meeting, may be directed to: Patricia M. Hall, Foreign Claims Settlement Commission, 600 E Street NW., Suite 6002, Washington, DC 20579. Telephone: (202) 616-6975.

Brian M. Simkin,
Chief Counsel.

[FR Doc. 2014-16847 Filed 7-14-14; 4:15 pm]

BILLING CODE 4410-BA-P